DEPARTMENT OF THE INTERIOR

Fish and Wildlife Service

Notice of Intent To Prepare a Comprehensive Conservation Plan and Environmental Assessment for the Humboldt Bay National Wildlife Refuge Complex

AGENCY: Fish and Wildlife Service, Department of the Interior.

ACTION: Notice of intent.

SUMMARY: The U.S. Fish and Wildlife Service (Service) is preparing a Comprehensive Conservation Plan (CCP) and Environmental Assessment (EA) for the Humboldt Bay National Wildlife Refuge Complex (Complex) located in Humboldt and Del Norte Counties of California. The Complex is comprised of Humboldt Bay National Wildlife Refuge and Castle Rock National Wildlife Refuge. This notice advises the public that the Service intends to gather information necessary to prepare a CCP and EA pursuant to the National Wildlife Refuge System Administration Act of 1966, as amended, and the National Environmental Policy Act (NEPA). The public and other agencies are encouraged to participate in the planning process by sending written comments on management actions that the Service should consider. The Service is also furnishing this notice in compliance with the Service CCP policy to obtain suggestions and information on the scope of issues to include in the CCP and EA. Opportunities for public input will be announced throughout the CCP/EA planning and development process.

DATES: To ensure that the Service has adequate time to evaluate and incorporate suggestions and other input into the planning process, comments should be received on or before March 15, 2007.

ADDRESSES: Send written comments or requests to be added to the mailing list to the following address: David Bergendorf, Refuge Planner, CA/NV Refuge Planning Office, 2800 Cottage Way, W-1832, Sacramento, California 95825-1846. Written comments may also be faxed to (916) 414-6497, or sent by electronic mail to david_bergendorf@fws.gov.

FOR FURTHER INFORMATION CONTACT: David Bergendorf, Refuge Planner, at (916) 414-6503 or Eric Nelson, Refuge Manager, at (707) 733-5406.

SUPPLEMENTARY INFORMATION: The National Wildlife Refuge System Administration Act of 1966, as amended by the National Wildlife Refuge System Improvement Act of 1997, requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife, plants and their habitats, the CCP will identify compatible wildlife-dependent recreational opportunities available to the public. The recreational opportunities that will receive priority consideration are hunting, fishing, wildlife observation and photography, and environmental education and interpretation. The planning process will consider many other elements, including cultural resource protection, environmental effects, and administrative resources. Public input into this planning process is very important. The CCP will provide other agencies and the public with a clear understanding of the desired conditions for the Complex and how the Service will implement management strategies.

Comments received will be used to help develop goals and objectives, as well as identify key issues evaluated in the NEPA document. All comments received, including names and addresses, will become part of the administrative record and may be made available to the public. Opportunities for public participation will occur throughout the process.

The Service will send Planning Updates to people who are interested in the CCP process. These mailings will provide information on how to participate in the CCP process. Interested federal, state, and local agencies, organizations, and individuals are invited to provide input. The Service expects to complete the CCP in 2008.

Background

The nearly 4,000 acre Humboldt Bay National Wildlife Refuge, located in Humboldt County, consists of several different units within and adjacent to Humboldt Bay and associated watersheds. Castle Rock National Wildlife Refuge is an island of nearly 14 acres in size located approximately eighty miles north of Humboldt Bay and approximately one half mile offshore from Crescent City, California.

Humboldt Bay National Wildlife Refuge was established in 1971 pursuant to the Migratory Bird Conservation Act (16 U.S.C. 715d), the Refuge Recreation Act (16 U.S.C. 460k-460 K.4) and the Fish and Wildlife Act of 1956 (16 U.S.C. 742f [a][4]). Lands within the Refuge have been set aside for use as an inviolate sanctuary, and other management purposes, for migratory birds, for incidental fish and wildlife-oriented recreational development, for the protection of natural resources, for the conservation of endangered species or threatened species and for the development, advancement, management, conservation, and protection of fish and wildlife resources. The Lanphere Dunes unit of Humboldt Bay National Wildlife Refuge was added to the Refuge Boundary in 1997 for the purpose of conserving fish or wildlife which are listed as endangered species or threatened species, and plants 16 U.S.C. 1534 (Endangered Species Act of 1973).

Castle Rock National Wildlife Refuge was established in 1981 for the purpose of conserving fish or wildlife which are listed as endangered species or threatened species, and plants 16 U.S.C. 1534 (Endangered Species Act of 1973).

The Service anticipates a draft CCP and EA to be available for public review and comment in 2007.

Dated: January 23, 2007.
Ken McDermond,
Acting Manager, CA/NV Operations, Sacramento, California.

[FR Doc. E7-1327 Filed 1-26-07; 8:45 am]

BILLING CODE 4310-55-P